DEPARTMENT OF DEFENSE

Department of the Navy

Notice of Availability of Government-Owned Invention; Available for Licensing

AGENCY: Department of the Navy, DoD.

ACTION: Notice.

SUMMARY: The invention listed below is assigned to the United States Government as represented by the Secretary of the Navy and is available for licensing by the Department of the Navy.

Patent application 10/601,893: TWO BAND IMAGING SYSTEM. A two band imaging system with two infrared focal plane array detectors, two filters of known band-pass, a dichroic beam splitter and an image processor. Each filter is placed in front of a corresponding infrared focal plane array detector, and the dichroic beam splitter is disposed within the system at a 45-degree angle to the optical axis such that light entering the system is split and is simultaneously directed to each of the two infrared focal plane array detectors. The image processor simultaneously converts the light entering the two infrared focal plane array detectors into a real time absolute image.

ADDRESSES: Requests for copies of the invention cited should be directed to the Naval Surface Warfare Center, Crane Div., Code OCF, Bldg. 64, 300 Highway 361, Crane, IN 47522-5001.

FOR FURTHER INFORMATION CONTACT: Mr. Darrell Boggess, Naval Surface Warfare Center, Crane Div., Code OCF, Bldg. 64, 300 Highway 361, Crane, IN 47522-5001, telephone (812) 854-1130. To download an application for license, see: http://www.crane.navy.mil/foia_pa/CranePatents.asp.

(Authority: 35 U.S.C. 207, 37 CFR part 404)

Dated: September 29, 2003.
E.F. McDonnell,
Major, U.S. Marine Corps, Federal Register Liaison Officer.

[FR Doc. 03-25566 Filed 10-8-03; 8:45 am]

BILLING CODE 3810-FF-P